DEPARTMENT OF COMMERCE

Census Bureau

Shipper's Export Declaration Program

ACTION: Proposed collection; comment request.

SUMMARY: The Department of Commerce, as mandated by Public Law 106-113, Title XII, “Security Assistance,” Subtitle E, “Proliferation Prevention Enhancement Act of 1999” and as part of its continuing effort to reduce paperwork and respondent burden, as required by the Paperwork Reduction Act of 1995, Public Law 104-13 (U.S.C. 3506(c)(2)(A)), invites the general public and other Federal agencies to take this opportunity to comment on proposed and/or continuing information collections.

DATES: Written comments must be submitted on or before February 26, 2002.

ADDRESSES: Direct all written comments to Madeleine Clayton, Departmental Paperwork Clearance Officer, Department of Commerce, Room 6086, 14th and Constitution Avenue, NW., Washington, DC 20230 (or via the Internet at mclayton@doc.gov).

FOR FURTHER INFORMATION CONTACT: Requests for additional information or copies of the information collection instrument(s) and instructions should be directed to Jerome Greenwell, Foreign Trade Division, U.S. Census Bureau, Room 3125, Federal Office Building No. 3, Washington, DC 20233-0001, 301-457-2238.

SUPPLEMENTARY INFORMATION

I. Abstract:

The Shipper's Export Declaration (SED), Form 7525-V and the electronic equivalent, the Automated Export System (AES) are the basis for the official export trade statistics compiled by the U.S. Census Bureau (Census Bureau) used for determining the balance of trade, a principal economic indicator. Title 13, United States Code, Chapter 9, Sections 301-307 authorizes the collection of these data. Title 15, Code of Federal Regulations, Part 30 contains the regulatory provisions for preparing and filing the SED or the AES record. These data are essential in formulating basic government policy decisions affecting the economy. The U.S. businesses rely heavily on these data to develop export leads, export marketing strategies and assessing the impact of exports on the domestic economy.

The SED/AES records are also used for export control purposes under Title 50, United States Code. The SED/AES records, as official documents or export transactions, enable the U.S. Customs Service (Customs) and the Bureau of Export Administration (BXA) to enforce the Customs and Export Administration Regulations and thereby detect and prevent the export of high technology items or military goods to unauthorized destinations or end users. The Department of State (State Department) uses the SED/AES information to enforce the International Traffic in Arms Regulations (ITAR), Title 22, CFR 120-130, to detect and prevent the export of arms and ammunition to unauthorized destinations.

On November 29, 1999, the President signed H.R. 3194 into law (Public Law 106-113). The short title to this law, as specified in section 1251, is referred to as the “Proliferation Prevention Enhancement Act of 1999.” Section 1252 of this law amends Title 13, United States Code, Chapter 9, Section 301, to add Section “(h)” authorizing the Department of Commerce, Census Bureau, to require by regulation mandatory reporting requirements for filing export information through the AES. This Act further specifies that all items on the Department of Commerce’ Commerce Control List (CCL) and the State Department's of U.S. Munitions List (USML) be reported through the AES, when an SED is required.

As a result of Pub. L. 106-113, the Census Bureau is planning revisions to AES to meet the requirements of the law. The State Department has requested to have additional data items incorporated into the AES in order to accommodate the requirements of the ITAR. The collection of these additional data items are critical to the mission of the State Department in maintaining control over the export of arms and ammunition. The incorporation of these data items into AES will allow the elimination of the requirement for exporters to submit the paper SED to the State Department. The items mentioned above will not be required for the paper SED since the items on the USML or CCL must be filed through AES. Therefore, the additional data items requested by the State Department will not be incorporated on the paper SED. However, the Census Bureau is requesting one additional data item be added to the paper form to bring it up to date with regulatory changes reflected in the AES. With this submission the Census Bureau is requesting clearance for the reporting of the additional export data items.

II. Method of Collection

A paper SED or electronic AES record is required for all export shipments valued over $2,500 from the United States, Puerto Rico, and the U.S. Virgin Islands. The SED or AES record is also required for all licensed shipments, (i.e. State Department or BXA export licenses) regardless of value. The SED program is unique among Census Bureau statistical collections since it is not sent to respondents soliciting responses as is the case in surveys. Filing the SED/AES information is mandatory under Title 13, Chapter 9, United States Code. The Census Bureau has seen a progressive growth in the number of electronic filers, with a comparable decrease in the number of paper SED filers. Exporters can access the AES via the Census Bureau's free Internet-based system, AESDirect or they can integrate the AES into their company's network and file directly with Customs. Exporters can purchase paper SEDs from the Government Printing Office or they may have them privately printed. They can also download the SEDs over the Internet and print them on the required “buff” colored paper.

For exports to Canada, the United States is substituting Canadian import statistics for U.S. export statistics to Canada in accordance with a Memorandum of Understanding (MOU) signed by both Customs and statistical agencies in both countries. Similarly, under this MOU, Canada is substituting U.S. imports statistics for Canadian exports to the United States. This data exchange eliminates the requirement for U.S. exporters to file any information with the U.S. Government for exports of non-licensed shipments to Canada. This results in the elimination of over seven million SEDs annually. However, for exports to Canada that require a license, a SED or AES record must be filed. Also, a SED or AES record is required for exports from the United States through Canada destined to a country other than Canada.

For this submission, the Census Bureau is planning revisions to the paper SED and the AES. The only change to the paper SED includes adding a box to collect the authorized forwarding agent's Employer Identification Number. Revisions to the AES format include: (1) Adding an additional field to collect a registration code assigned by the Department of State's Office of Defense Trade Controls (ODTC), (2) adding a “yes” or “no” indicator for the shipment of ODTC significant military equipment, (3) adding a “yes” or “no” indicator for ODTC eligible party certification, (4) adding an additional field to collect the ODTC USML category code, (5) adding an additional field to collect ODTC USML unit of measure, (6) adding an additional field to collect ODTC USML unit of quantity, and (7) adding an additional field to collect the ODTC export license line number. The AES and the SED currently requires the reporting of an ODTC license number or ODTC (ITAR) exemption citation. These changes will affect only a small portion of the number of AES transactions filed and will have no affect on the overall AES transactions response time of three minutes. Furthermore, because of the significant reduction in the paper filing of SEDs since the last Office of Management and Budget (OMB) clearance approval, the estimated total annual burden hours has decreased.

The U.S. principal party in interests (USPPI) or authorized agents file individual paper SEDs with the exporting carries at the time that each export shipment leaves the United States. For AES, USPPI's or authorized agents file the export data electronically directly with the Census Bureau or Customs, according to the filing provisions established in Title 15, Code of Federal Regulations, part 30, subpart E, Electronic Filing Requirements—Shipper's Export Information.” The carriers submit the paper SED documents to Customs officials when the carrier departs the United States and Customs then transmits the SEDs to the Census Bureau on a flow basis for statistical processing.

For AES, the Census Bureau extracts export data files from the Customs AES, for statistical processing. As a result of Pub. L. 106-113, the State Department will extract from AES only those records of exports subject to the ITAR.

In summary, the mandatory filing of USML and CCL shipments through the AES will substantially decrease the number of paper SEDs processed monthly and provide more timely and accurate information to Customs, BXA and the State Department for the purposes of export control.

III. Data

OMB Number: 0607-0152.

Form Number: 7525-V, Automated Export System (AES) submissions.

Type of Review: Regular Submission.

Affected Public: Exporters, Forwarding Agents, Export Carriers.

Estimated Number of Respondents: 200,000.

Estimated Number of Responses: 15,043,756.

Estimated Time Per Response: 11.0 minutes for 7525-V 3.0 minutes for AES Submissions.

Estimated Total Annual Burden Hours: 944,188 (SEDs 264,000)( AES 680,188).

Estimated Total Annual Cost: $14,162,820.

Respondent's Obligation: Mandatory.

Legal Authority: Title 13, United States Code, Chapter 9 and Public Law 106-113, Title XII, “Security Assistance,” Subtitle E, “Proliferation Prevention Enhancement Act of 1999”.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected: and (d) ways to minimize the burden of the collection of information on respondents.

Comments submitted in response to this notice will be summarized and/or included in the request for OMB approval of this information collection; they also will become a matter of public record.

Dated: December 20, 2001.
Madeleine Clayton,
Departmental Paperwork Clearance Officer, Office of the Chief Information Officer.

[FR Doc. 01-31852 Filed 12-27-01; 8:45 am]

BILLING CODE 3510-07-P